Title 3—

The President

Executive Order 13701 of July 17, 2015

Delegation of Certain Authorities and Assignment of Certain Functions Under the Bipartisan Congressional Trade Priorities and Accountability Act of 2015

By the authority vested in me as President by the Constitution and the laws of the United States of America, including the Bipartisan Congressional Trade Priorities and Accountability Act of 2015 (the “Act”) (Public Law 114-26) and section 301 of title 3, United States Code, I hereby order as follows:

Section 1. Authorities and Functions under the Act. (a) Except as provided in subsections (b) and (c) of this section, the authorities granted to and functions specifically assigned to the President under title I of the Act are delegated and assigned, respectively, to the United States Trade Representative (U.S. Trade Representative).

(b) The exercise of the following authorities of, and functions specifically assigned to, the President under, title I of the Act are not delegated or assigned under this order:

(i) section 102(c)(1) and (c)(3) of the Act;

(ii) section 103(a)(1)(A), (a)(1)(B), (a)(5), (a)(7), (b)(1), and (c)(2) of the Act;

(iii) section 105(a)(5) of the Act; and

(iv) section 106(a)(1)(A) and (E) of the Act.

(c) (i) The functions of the President under section 102(c)(2) of the Act with respect to establishing consultative mechanisms are assigned to the Secretary of State in consultation with the U.S. Trade Representative, with the advice and assistance of the Secretary of the Interior, the Secretary of Health and Human Services, the Administrator of the Environmental Protection Agency, the Secretary of Commerce and, as the Secretary of State determines appropriate, the heads of other executive departments and agencies.

(ii) The functions of the President under section 105(d)(1) of the Act are assigned to the U.S. Trade Representative, who shall conduct the environmental reviews under section 105(d)(1)(A) of the Act through the interagency Trade Policy Staff Committee, and shall perform the reporting function under section 105(d)(1)(B) of the Act.

(iii) The functions of the President under section 105(d)(2)(A) of the Act are assigned to the Secretary of Labor, who, in coordination with the U.S. Trade Representative, shall conduct the employment impact review under section 105(d)(2)(A) of the Act through the interagency Trade Policy Staff Committee, and shall prepare the report under section 105(d)(2) of the Act. The functions of the President under section 105(d)(2)(B) of the Act are assigned to the U.S. Trade Representative, who shall perform the reporting function under that section.

(iv) The functions of the President under section 105(d)(3) of the Act are assigned to the Secretary of Labor, who, in consultation with the U.S. Trade Representative and the Secretary of State, shall prepare the report on labor rights under section 105(d)(3)(A) and (B) of the Act, and to the U.S. Trade Representative, who shall perform the reporting function under section 105(d)(3) of the Act.

(v) The functions of the President under section 105(e)(2)(A) through (C) and (E) of the Act with respect to preparing plans for implementing and enforcing agreements submitted to the Congress pursuant to section 103(b) of the Act are assigned to the Director of the Office of Management and Budget, who shall carry out these functions with the advice and assistance of the Secretaries of State, the Treasury, Agriculture, Commerce, and Homeland Security and the U.S. Trade Representative and other executive departments and agencies as necessary.

Sec. 2. Capacity Building. The U.S. Trade Representative, with the advice and assistance of executive departments and agencies participating in capacity building activities undertaken in accordance with section 102(c)(1) and (2) of the Act, shall perform the reporting function under section 102(c)(4) of the Act.

Sec. 3. General Provisions. (a) Nothing in this order shall be construed to impair or otherwise affect the functions of the Director of the Office of Management and Budget relating to budgetary, administrative, or legislative proposals.

(b) In exercising authority delegated by or performing functions assigned in this order, officers of the United States:

(i) shall ensure that all actions taken by them are consistent with the President's constitutional authority to (A) conduct the foreign affairs of the United States, including the commencement, conduct, and termination of negotiations with foreign countries and international organizations; (B) withhold information the disclosure of which could impair the foreign relations, the national security, the deliberative processes of the Executive, or the performance of the Executive's constitutional duties; (C) recommend for congressional consideration such measures as the President may judge necessary or expedient; and (D) supervise the executive branch; and

(ii) may redelegate authority delegated by this order and may further assign functions assigned by this order to officers of any other department or agency within the executive branch to the extent permitted by law, and such redelegation or further assignment shall be published in the Federal Register.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

July 17, 2015.

[FR Doc. 2015-18292

Filed 7-22-15; 11:15 am]

Billing code 3295-F5